GENERAL SERVICES ADMINISTRATION

Office of Small Business Utilization; Small Business Advisory Committee; Notification of a Public Meeting of the Small Business Advisory Committee, Subcommittee on Service-Disabled Veteran-Owned Small Businesses

AGENCY: Office of Small Business Utilization, GSA.

ACTION: Notice.

SUMMARY: The General Services Administration (GSA) is announcing a public meeting of the GSA Small Business Advisory Committee, Subcommittee on Service-Disabled Veteran-Owned Small Businesses (the Subcommittee). The purpose of this meeting is to generate topics for future discussion and to hear from interested members of the public on proposals to improve GSA's SDVOSB contracting performance.

DATES: The meeting will take place June 8, 2009. The meeting will begin at 8:30 a.m. and conclude no later than 12 p.m. that day. The Subcommittee will accept oral public comments at this meeting and has reserved a total of thirty minutes for this purpose. Members of the public wishing to reserve speaking time must contact the DFO in writing at: sbac@gsa.gov or by fax at (202) 501-2590, no later than one week prior to the meeting. Individuals interested in attending the meeting should contact the DFO prior to the meeting date to expedite security procedures for building admittance.

ADDRESSES: The meeting location is Henry B. Gonzalez Convention Center, San Antonio, TX Room 006D.

FOR FURTHER INFORMATION CONTACT: Lucy Jenkins, Room 6033, GSA Building, 1800 F Street, NW., Washington, DC 20405 (202) 501-1445 or e-mail at sbac@gsa.gov.

SUPPLEMENTARY INFORMATION: This notice is published in accordance with the provisions of the Federal Advisory Committee Act (FACA) (Pub. L. 92-463). The purpose of this meeting is to generate topics for future discussion and to hear from interested members of the public on proposals to improve GSA's SDVOSB contracting performance.

Topics for this meeting will include but are not limited to welcoming the members to the subcommittee, the members annual ethics briefing and discussion of GSA's Veteran Outreach Program (21 Gun Salute) and improvements to the program. Information on the full Small Business Advisory Committee can be found online at http://www.gsa.gov/sbac.

Dated: May 7, 2009.
Mary Parks,
Acting Associate Administrator, Office of Small Business Utilization, General Services Administration.

[FR Doc. E9-12411 Filed 5-27-09; 8:45 am]

BILLING CODE 6820-34-P